DEPARTMENT OF THE INTERIOR

Fish and Wildlife Service

Availability of an Environmental Assessment and Receipt of an Application for an Incidental Take Permit for the Antelope Road L.P. Property, Murrieta, CA

AGENCY: Fish and Wildlife Service, Interior.

ACTION: Notice of availability and receipt of application.

SUMMARY: PCC II—Murrieta Oaks North, LLC (Applicant) has applied to the Fish and Wildlife Service (Service) for an incidental take permit pursuant to section 10(a)(1)(B) of the Endangered Species Act (Act) of 1973, as amended. The Service is considering issuing a 5-year permit to the Applicant that would authorize take of the threatened coastal California gnatcatcher (Polioptila californica californica, “gnatcatcher”) incidental to otherwise lawful activities associated with the construction of a residential development (a maximum of approximately 387 residential units) on a 37.1-acre site in the City of Murrieta, Riverside County, California. The project would result in the incidental take of two pairs of gnatcatchers on the project site through permanent removal of approximately 35 acres of habitat.

We request comments from the public on the permit application and an Environmental Assessment, both of which are available for review. The permit application includes the proposed Habitat Conservation Plan (Plan) and an accompanying Implementing Agreement. The Plan describes the proposed action and the measures that the Applicant will undertake to minimize and mitigate take of the gnatcatcher.

DATES: We must receive your written comments on or before November 19, 2002.

ADDRESSES: Please address written comments to Mr. Jim Bartel, Field Supervisor, U.S. Fish and Wildlife Service, 2730 Loker Avenue West, Carlsbad, California 92008. You also may send comments by facsimile to (760) 431-5902.

FOR FURTHER INFORMATION CONTACT: Ms. Karen Evans, Assistant Field Supervisor, at the above address or call (760) 431-9440.

SUPPLEMENTARY INFORMATION:

Availability of Documents

You may obtain copies of these documents for review by contacting the above office. Documents also will be available for public inspection, by appointment, during normal business hours at the above address and at the Murrieta Public Library located at 39589 Los Alamos Rd., Murrieta, California.

Background

Section 9 of the Act and federal regulations prohibit the “take” of fish and wildlife species listed as endangered or threatened. Take of federally listed fish and wildlife is defined under the Act to include “harass, harm, pursue, hunt, shoot, wound, kill, trap, capture, or collect, or to attempt to engage in any such conduct.” The Service may, under limited circumstances, issue permits to authorize incidental take (i.e., take that is incidental to, and not the purpose of, the carrying out of an otherwise lawful activity). Regulations governing incidental take permits for threatened and endangered species are found in 50 CFR 17.32 and 17.22.

The Applicant is proposing development of residential housing (containing up to approximately 319 multi-family and 68 single-family residential units) on 37.1 acres. The project site is located at the northwest corner of Sierra Lane and McElwain Road in the City of Murrieta, Riverside County, California. Historically, the site has been disturbed by dry crop farming and grazing and more recently by discing for weed abatement and off-road vehicle use. The project site is surrounded by existing rural residential dwellings and roads and is subject to disturbance or degradation by domestic pets, human recreation, invasive plant species, noise, and weed abatement needs due to the proximity of humans and the small size of the site. The proposed project site is not directly connected to large blocks of suitable gnatcatcher habitat being considered by the Service and local agencies for the long term conservation of this species. The project site does not occur within designated critical habitat for the gnatcatcher.

No gnatcatchers were detected during surveys conducted according to Service protocol in 2000. An apparently single male and a pair of gnatcatchers with an active nest were detected during protocol surveys in 2001. Based on these survey results, the Service concluded that implementation of the proposed project will likely result in take of up to two pairs of gnatcatchers through the permanent removal of 35.18 acres of vegetation on the 37.1-acre site.

Federally endangered Quino checkerspot butterfly (Euphydryas editha quino) were not detected on the project site during three years of surveys, 1999-2001. The federally endangered Stephens' kangaroo rat (Dipodomys stephensi, “SKR”) may occupy portions of the proposed project site, though no SKR surveys have been conducted at the project site. Because the proposed project site occurs within the plan area boundary of the Habitat Conservation Plan for the Stephens' Kangaroo Rat in Western Riverside County, California (March 1996), compliance with the SKR Habitat Conservation Plan and its associated implementation agreement will be required prior to any ground-disturbing activities.

To mitigate take of gnatcatchers on the project site, the Applicant proposes to purchase credits towards conservation in-perpetuity of 74 acres of riversidean sage scrub and two pairs of gnatcatchers from an off-site conservation bank (or banks) in western Riverside County. The conservation bank(s) collect fees supporting a management endowment to ensure their permanent management and monitoring of sensitive species and habitats, including the gnatcatcher.

The Service's Environmental Assessment considers the environmental consequences of four alternatives, including: (1) The Proposed Project Alternative, which consists of issuance of the incidental take permit and implementation of the Plan and Implementing Agreement; (2) the No Action Alternative which consists of no permit issuance and no development at this time; (3) the Reduced Project Alternative, which consists of issuing a permit for development of either the multi-or single-family residences on half of the project site; and (4) the Different Location Alternative, which consists of relocation of the project to another site within the City of Murrieta. The alternatives to the Proposed Project Alternative would result in less long-term conservation for the gnatcatcher within western Riverside County, as they would not contribute as much, or at all, to conservation of areas within or directly connected to habitat being considered by the Service and local agencies for long-term conservation of the species. Thus, these alternatives would contribute less to the long-term survival and recovery of the gnatcatcher than the Proposed Project Alternative.

This notice is provided pursuant to section 10(a) of the Act and the regulations of the National Environmental Policy Act (NEPA) of 1969 (40 CFR 1506.6). All comments that we receive, including names and addresses, will become part of the official administrative record and may be made available to the public. We will evaluate the application, associated documents, and comments submitted thereon to determine whether the application meets the requirements of NEPA regulations and section 10(a) of the Act. If we determine that those requirements are met, we will issue a permit to the Applicant for the incidental take of the gnatcatcher. We will make our final permit decision no sooner than 60 days from the date of this notice.

Dated: September 13, 2002.
Ken McDermond,
Deputy Manager, California/Nevada Operations Office, Sacramento, California.

[FR Doc. 02-23884 Filed 9-19-02; 8:45 am]

BILLING CODE 4310-55-P